FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011677-002.

Title: The United States Australasia Agreement.

Parties: Australia-New Zealand Direct Line, CMA CGM SA, Contship Container Lines Limited, Columbus Line, P&O Nedlloyd Limited, Wallenius Wilhelmsen Lines AS.

Synopsis: The proposed amendment would exclude United States West Coast transshipment cargoes from the Agreement's trade participation share arrangements (“TPA”). It would also provide for 12-month share periods beginning each January First, increase allowable shares, provide for resignation from the TPA only at the end of a share period, and provide for a change in share revision negotiation procedures.

Agreement No.: 011734.

Title: Maersk Sealand/Great Western Pacific Slot Charter Agreement.

Parties: A.P. Moller-Maersk Sealand (“MSL”) Great Western Steamship Co.

Synopsis: Under the proposed Agreement, Great Western would charter space aboard vessels operated by MSL in the trade between Busan, South Korea, and inland points via Busan, and the Port of Long Beach, California, and inland United States points via Long Beach. The Agreement will expire on June 30, 2001.

Dated: November 22, 2000.
By Order of the Federal Maritime Commission.
Bryant L. VanBrakle,
Secretary.

[FR Doc. 00-30316 Filed 11-27-00; 8:45 am]

BILLING CODE 6730-01-P